DEPARTMENT OF THE INTERIOR

Geological Survey

Technology Transfer Act of 1986

AGENCY: Geological Survey, Interior.

ACTION: Notice of Proposed Cooperative Research & Development Agreement (CRADA) Negotiations.

SUMMARY: The United States Geological Survey (USGS) is contemplating entering into a Cooperative Research and Development Agreement (CRADA) with LaFarge Corporation, Inc. to test a set of geophysical tools for evaluation of alluvial deposits without drilling or trenching.

INQUIRIES: If any other parties are interested in similar activities with the USGS, please contact Karl Ellefson, PO Box 25046, MS-964, Denver, Colorado 80225, (303) 236-7032.

SUPPLEMENTARY INFORMATION: This notice is submitted to meet the USGS requirements stipulated in Survey Manual Chapter 500.20.

Dated: December 6, 2001.
Linda C. Gundersen,
Chief Scientist for Geology.

[FR Doc. 01-30631 Filed 12-11-01; 8:45 am]

BILLING CODE 4310-47-M